DEPARTMENT OF HOMELAND SECURITY

Coast Guard

33 CFR Parts 100 and 165

[Docket Number USCG-2025-0245]

2025 Quarterly Listings; Second Quarter; Safety Zones, Security Zones, and Special Local Regulations

AGENCY: Coast Guard, DHS.

ACTION: Notification of expired temporary rules issued.

SUMMARY: This document provides notification of substantive rules issued by the Coast Guard that were made temporarily effective but expired before they could be published in the Federal Register. This document lists temporary safety zones, security zones, and special local regulations, all of limited duration and for which timely publication in the Federal Register was not possible. This document also announces notifications of enforcement for existing reoccurring regulations that we issued but were unable to be published before the enforcement period ended.

DATES: This document lists temporary Coast Guard rules and notifications of enforcement that became effective, primarily between April 2025 and June 2025, and expired before they could be published in the Federal Register.

ADDRESSES: Temporary rules listed in this document may be viewed online, under their respective docket numbers, using the Federal eRulemaking Portal at http://www.regulations.gov.

FOR FURTHER INFORMATION CONTACT: For questions on this document contact Ambar Ali, Office of Regulations and Administrative Law, email HQS-SMB-CG-LRA-Admin@uscg.mil, telephone (202) 372-3862.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events.

Timely publication of these rules in the Federal Register may be precluded when a rule responds to an emergency, or when an event occurs without sufficient advance notice. The affected public is, however, often informed of these rules through Local Notices to Mariners, press releases, and other means. Moreover, actual notification is provided by Coast Guard patrol vessels enforcing the restrictions imposed by the rule. Timely publication of notifications of enforcement of reoccurring regulations may be precluded when the event occurs with short notice or other agency procedural restraints.

Because Federal Register publication was not possible before the end of the effective period, mariners would have been notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated. In some of our reoccurring regulations, we say we will publish a notice of enforcement as one of the means of notifying the public. We use this notification to announce those notifications of enforcement that we issued and will post them to their dockets.

The following unpublished rules were placed in effect temporarily during the period between April 2025 and June 2025. To view copies of these rules, visit www.regulations.gov and search by the docket number indicated in the following table.

Docket No. | Type | Location | Effective date
USCG-2025-0118 | Safety Zones (Parts 147 and 165) | Philadelphia, PA | 2/14/2025
USCG-2025-0137 | Safety Zones (Parts 147 and 165) | Corpus Christi, TX | 3/18/2025
USCG-2025-0160 | Safety Zones (Parts 147 and 165) | Pensacola Bay, FL | 3/19/2025
USCG-2024-1056 | Safety Zones (Parts 147 and 165) | Sandy Hook, NJ | 3/24/2025
USCG-2025-0229 | Safety Zones (Parts 147 and 165) | Pascagoula, MS | 3/27/2025
USCG-2025-0172 | Special Local Regulations (Part 100) | Brigantine, NJ | 3/29/2025
USCG-2025-0311 | Safety Zones (Parts 147 and 165) | Arroyo City, TX | 4/2/2025
USCG-2025-0272 | Safety Zones (Parts 147 and 165) | Brusly, LA | 4/5/2025
USCG-2025-0055 | Safety Zones (Parts 147 and 165) | Miami, FL | 4/5/2025
USCG-2025-0208 | Safety Zones (Parts 147 and 165) | Chester, PA | 4/5/2025
USCG-2025-0314 | Security Zones (Part 165) | Corpus Christi, TX | 4/9/2025
USCG-2025-0256 | Security Zones (Part 165) | New Orleans, LA | 4/10/2025
USCG-2025-0327 | Security Zones (Part 165) | Miami Beach, FL | 4/12/2025
USCG-2025-0282 | Safety Zones (Parts 147 and 165) | Stratton, OH | 4/12/2025
USCG-2025-0335 | Safety Zones (Parts 147 and 165) | Commencement Bay, Washington | 4/19/2025
USCG-2025-0341 | Safety Zones (Parts 147 and 165) | Corpus Christi, TX | 4/20/2025
USCG-2025-0281 | Safety Zones (Parts 147 and 165) | South Padre Island, TX | 4/20/2025
USCG-2025-0255 | Special Local Regulations (Part 100) | Lake Havasu, AZ | 4/25/2025
USCG-2025-0258 | Safety Zones (Parts 147 and 165) | Erie, PA | 4/25/2025
USCG-2025-0352 | Security Zones (Part 165) | Corpus Christi, TX | 4/25/2025
USCG-2025-0266 | Safety Zones (Parts 147 and 165) | San Diego, CA | 4/26/2025
USCG-2025-0368 | Security Zones (Part 165) | Gunston Cove, VA | 4/26/2025
USCG-2025-0353 | Special Local Regulations (Part 100) | Detroit, MI | 4/26/2025
USCG-2025-0275 | Special Local Regulations (Part 100) | San Francisco, CA | 4/27/2025
USCG-2025-0276 | Special Local Regulations (Part 100) | San Francisco, CA | 4/27/2025
USCG-2025-0207 | Safety Zones (Parts 147 and 165) | Peoria, IL | 4/28/2025
USCG-2025-0361 | Safety Zones (Parts 147 and 165) | Port Lavaca, TX | 4/30/2025
USCG-2025-0372 | Safety Zones (Parts 147 and 165) | Charleston, SC | 5/1/2025
USCG-2025-0356 | Safety Zones (Parts 147 and 165) | Corpus Christi, TX | 5/8/2025
USCG-2025-0420 | Safety Zones (Parts 147 and 165) | Westport, WA | 5/9/2025
USCG-2025-0416 | Safety Zones (Parts 147 and 165) | Corpus Christi, TX | 5/14/2025
USCG-2025-0358 | Safety Zones (Parts 147 and 165) | San Francisco, CA | 5/16/2025
USCG-2025-0359 | Safety Zones (Parts 147 and 165) | San Francisco, CA | 5/17/2025
USCG-2025-0411 | Safety Zones (Parts 147 and 165) | Detroit, MI | 5/19/2025
USCG-2025-0431 | Safety Zones (Parts 147 and 165) | Corpus Christi, TX | 5/20/2025
USCG-2025-0383 | Safety Zones (Parts 147 and 165) | New Orleans, LA | 5/23/2025
USCG-2025-0437 | Safety Zones (Parts 147 and 165) | Lake Ozark, MO | 5/25/2025
USCG-2025-0418 | Safety Zones (Parts 147 and 165) | Beaufort, SC | 5/25/2025
USCG-2025-0362 | Safety Zones (Parts 147 and 165) | South Padre Island, TX | 5/25/2025
USCG-2025-0465 | Safety Zones (Parts 147 and 165) | Shippingport, PA | 5/27/2025
USCG-2025-0363 | Safety Zones (Parts 147 and 165) | Boca Chica Beach, TX | 5/27/2025
USCG-2025-0470 | Safety Zones (Parts 147 and 165) | Concord, CA. | 5/28/2025
USCG-2025-0466 | Safety Zones (Parts 147 and 165) | Corpus Christi, TX | 5/29/2025
USCG-2025-0429 | Safety Zones (Parts 147 and 165) | Philadelphia, PA | 5/30/2025
USCG-2025-0478 | Security Zone (Part 165) | West Mifflin, PA | 5/30/2025
USCG-2025-0333 | Special Local Regulations (Part 100) | San Francisco, CA | 6/1/2025
USCG-2025-0513 | Safety Zones (Parts 147 and 165) | Portland, OR | 6/3/2025
USCG-2025-0331 | Safety Zones (Parts 147 and 165) | Santa Cruz, CA | 6/6/2025
USCG-2025-0522 | Safety Zones (Parts 147 and 165) | Milwaukee, WI | 6/7/2025
USCG-2025-0130 | Special Local Regulations (Part 100) | Creighton, PA | 6/7/2025
USCG-2025-0467 | Special Local Regulations (Part 100) | Wheeling, WV | 6/8/2025
USCG-2025-0507 | Safety Zones (Parts 147 and 165) | Cape Canaveral, FL | 6/11/2025
USCG-2025-0468 | Special Local Regulations (Part 100) | Parker, AZ | 6/14/2025
USCG-2025-0554 | Safety Zones (Parts 147 and 165) | Detroit, Michigan | 6/21/2025
USCG-2025-0571 | Safety Zones (Parts 147 and 165) | Corpus Christi, TX | 6/25/2025
USCG-2025-0380 | Safety Zones (Parts 147 and 165) | San Pedro, CA | 6/27/2025
USCG-2025-0521 | Safety Zones (Parts 147 and 165) | Point Comfort, TX | 6/28/2025
USCG-2025-0382 | Safety Zones (Parts 147 and 165) | Long Beach, CA | 7/3/2025
USCG-2025-0403 | Safety Zones (Parts 147 and 165) | Newport Beach, CA | 7/4/2025
USCG-2025-0402 | Safety Zones (Parts 147 and 165) | Long Beach, CA | 7/4/2025
USCG-2025-0381 | Safety Zones (Parts 147 and 165) | Santa Catalina Island, CA | 7/5/2025

Michael Cunningham,
Chief, Office of Regulations and Administrative Law, United States Coast Guard.

[FR Doc. 2025-22961 Filed 12-15-25; 8:45 am]

BILLING CODE 9110-04-P